DEPARTMENT OF ENERGY

Federal Energy Regulatory Commission

[Docket No. RP04-371-000]

Viking Gas Transmission Company; Notice of Proposed Changes in FERC Gas Tariff

July 8, 2004.

Take notice that on July 1, 2004, Viking Gas Transmission Company (Viking) tendered for filing to be part of its FERC Gas Tariff, First Revised Volume No. 1, the following tariff sheets proposed to become effective August 1, 2004:

Seventeenth Revised Sheet No. 39

Fifth Revised Sheet No. 63, and

Original Sheet No. 63A

Viking states that the purpose of this filing is to amend section 17 of the General Terms and Conditions of Viking's FERC Gas Tariff to add a provision which identifies the types of discounts that Viking may enter into with customers on its systems without creating a material deviation from Viking's pro forma form of service agreement.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-1557 Filed 7-13-04; 8:45 am]

BILLING CODE 6717-01-P